FEDERAL COMMUNICATIONS COMMISSION

[Report No. 2712]

Petitions For Reconsideration of Action in Rulemaking Proceedings

May 25, 2005.

Petitions for Reconsideration have been filed in the Commission's Rulemaking proceedings listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to these petitions must be filed by June 30, 2005. See Section 1.4(b)(1) of the Commission's rules (47 CFR 1.4(b)(1)). Replies to an opposition must be filed within 10 days after the time for filing oppositions have expired.

Subject: In the Matter of Petition for Waiver of the Part 15 UWB Regulations Filed by the Multi-band OFDM Alliance Special Interest Group (ET Docket No. 04-352)

Number of Petitions Filed: 1.

Subject: In the Matter of Revision of Part 15 of the Commission's Rules Regarding Ultra-Wideband Transmission Systems

Number of Petitions Filed: 1.

Marlene H. Dortch,
Secretary.

[FR Doc. 05-11547 Filed 6-14-05; 8:45 am]

BILLING CODE 6712-01-P